DEPARTMENT OF HEALTH AND HUMAN SERVICES

Indian Health Service

Notice of Purchased/Referred Care Delivery Area Redesignation for the Spokane Tribe of Indians in the State of Washington

AGENCY: Indian Health Service, Department of Health and Human Services.

ACTION: Notice.

SUMMARY: This Notice advises the public that the Indian Health Service (IHS) proposes to expand the geographic boundaries of the Purchased/Referred Care Delivery Area (PRCDA) for the Spokane Tribe of the Spokane Reservation to include the counties of Spokane and Whitman in the State of Washington. The current PRCDA for the Spokane Tribe of the Spokane Reservation includes the Washington counties of Ferry, Lincoln, and Stevens. Spokane Tribal members residing outside of the PRCDA are eligible for direct care services, however, they are not eligible for Purchased/Referred Care (PRC) services. The sole purpose of this expansion would be to authorize additional Spokane Tribal members and beneficiaries to receive PRC services.

DATES: Comments must be submitted September 8, 2023.

ADDRESSES: Because of staff and resource limitations, we cannot accept comments by facsimile (FAX) transmission. You may submit comments in one of four ways:

1. Electronically. You may submit electronic comments on this regulation to http://www.regulations.gov. Follow the “Submit a Comment” instructions.

2. By regular mail. You may mail written comments to the following address ONLY: Carl Mitchell, Director, Division of Regulatory and Policy Coordination, Indian Health Service, 5600 Fishers Lane, Mail Stop: 09E70, Rockville, Maryland 20857. Please allow sufficient time for mailed comments to be received before the close of the comment period.

3. By express or overnight mail. You may send written comments to the above address.

4. By hand or courier. If you prefer, you may deliver (by hand or courier) your written comments before the close of the comment period to the address above.

If you intend to deliver your comments to the Rockville address, please call telephone number (301) 443-1116 in advance to schedule your arrival with a staff member.

FOR FURTHER INFORMATION CONTACT: CAPT John Rael, Director, Office of Resource Access and Partnerships, Indian Health Service, 5600 Fishers Lane, Mail Stop: 10E85C, Rockville, Maryland 20857. Telephone (301) 443-0969 (This is not a toll free number).

SUPPLEMENTARY INFORMATION:

Inspection of Public Comments: All comments received before the close of the comment period are available for viewing by the public, including any personally identifiable or confidential business information that is included in a comment.

Background: The IHS provides services under regulations in effect as of September 15, 1987, and republished at 42 CFR part 136, subparts A-C. Subpart C defines a Contract Health Service Delivery Area (CHSDA), now referred to as a PRCDA, as the geographic area within which PRC will be made available by the IHS to members of an identified Indian community who reside in the PRCDA. Residence within a PRCDA by a person who is within the scope of the Indian health program, as set forth in 42 CFR 136.12, creates no legal entitlement to PRC but only potential eligibility for services. Services needed, but not available at an IHS/Tribal facility, are provided under the PRC program depending on the availability of funds, the person's relative medical priority, and the actual availability and accessibility of alternate resources in accordance with the regulations.

The regulations at 42 CFR part 136, subpart C provide that, unless otherwise designated, a PRCDA shall consist of a county which includes all or part of a reservation and any county or counties which have a common boundary with the reservation, 42 CFR 136.22(a)(6). The regulations also provide that after consultation with the Tribal governing body or bodies on those reservations included within the PRCDA, the Secretary may from time to time, redesignate areas within the United States for inclusion in or exclusion from a PRCDA, 42 CFR 136.22(b). The regulations require that certain criteria must be considered before any redesignation is made. The criteria are as follows:

(1) The number of Indians residing in the area proposed to be so included or excluded;

(2) Whether the Tribal governing body has determined that Indians residing in the area near the reservation are socially and economically affiliated with the Tribe;

(3) The geographic proximity to the reservation of the area whose inclusion or exclusion is being considered; and

(4) The level of funding which would be available for the provision of PRC.

Additionally, the regulations require that any redesignation of a PRCDA must be made in accordance with the procedures of the Administrative Procedure Act (5 U.S.C. 553), 42 CFR 136.22(c). In compliance with this requirement, the IHS is publishing this Notice and requesting public comments.

The Spokane Tribe of the Spokane Reservation is located in the Northeastern part of Washington State. The Tribe is located on an approximately 157,000 acre reservation that is located in Stevens, Lincoln, and Spokane Counties.

The PRC Program is operated as a Federal program through the Wellpinit Service Unit in Wellpinit, WA. The Portland Area IHS estimates there are currently 480 Tribal members who live within Spokane and Whitman Counties and would become PRC eligible through this proposed expansion. The Tribe states that Tribal members who reside in Spokane and Whitman Counties are socially and economically affiliated with the Tribe through employment, family, community, or services. The Tribe would like to recognize them as eligible for PRC. Accordingly, the IHS proposes to expand the PRCDA of the Spokane Tribe of the Spokane Reservation to include the Washington counties of Spokane and Whitman.

Under 42 CFR 136.23, those otherwise eligible Indians who do not reside on a reservation, but reside within a PRCDA, must be either members of the Tribe or other IHS beneficiaries who maintain close economic and social ties with the Tribe. In this case, applying the aforementioned PRCDA redesignation criteria required by operative regulations codified at 42 CFR part 136, subpart C, the following findings are made:

1. By expanding the PRCDA to include Spokane County and Whitman County, the Spokane Tribe of the Spokane Reservation's eligible population will be increased by an estimated 480 tribal members.

2. The IHS finds that the Tribal members within the expanded PRCDA are socially and economically affiliated with the Spokane Tribe of the Spokane Reservation based on letters from the Tribe, dated May 31, 2022 and August 8, 2022, which noted that the Spokane Tribal Council had determined that tribal members residing in Spokane and Whitman counties are socially and economically affiliated with the Tribe.

3. Spokane and Whitman counties in the State of Washington are “on or near” the reservation, as they maintain a common boundary with the current PRCDA consisting of the counties of Ferry, Lincoln, and Stevens in the State of Washington. In addition to this, Spokane County includes a recent addition to the Spokane reservation (see 83 FR 18860), and Whitman County includes the Tribe's aboriginal territory.

4. The IHS administers the Wellpinit Service Unit PRC program and will use its existing Federal allocation for PRC to provide services to the expanded population. The Portland Area Director acknowledged that no additional financial resources will be allocated by the IHS to the Portland Area IHS to provide services to Spokane Tribal members residing in Spokane and Whitman counties in the State of Washington.

This Notice does not contain reporting or recordkeeping requirements subject to prior approval by the Office of Management and Budget under the Paperwork Reduction Act of 1995.

Roselyn Tso,
Director, Indian Health Service.

[FR Doc. 2023-17058 Filed 8-8-23; 8:45 am]

BILLING CODE 4165-16-P